DEPARTMENT OF THE INTERIOR

Fish and Wildlife Service

Notice of Intent To Prepare a Comprehensive Conservation Plan and Environmental Assessment for Eufaula National Wildlife Refuge in Barbour and Russell Counties, AL, and Stewart and Quitman Counties, GA

AGENCY: Fish and Wildlife Service, Interior.

ACTION: Notice of intent.

SUMMARY: The Fish and Wildlife Service, Southeast Region, intends to gather information necessary to prepare a comprehensive conservation plan and environmental assessment pursuant to the National Environmental Policy Act of 1969 and its implementing regulations.

The National Wildlife Refuge System Administration Act of 1966, as amended by the National Wildlife Refuge System Improvement Act of 1997, requires the Service to develop a comprehensive conservation plan for each national wildlife refuge. The purpose in developing a comprehensive conservation plan is to provide refuge managers with a 15-year strategy for achieving refuge purposes and contributing toward the mission of the National Wildlife Refuge System, consistent with sound principles of fish and wildlife management, conservation, legal mandates, and Service policies. In addition to outlining broad management direction on conserving wildlife and their habitats, plans identify wildlife-dependent recreational opportunities available to the public, including opportunities for hunting, fishing, wildlife observation, wildlife photography, and environmental education and interpretation.

The purpose of this notice is to achieve the following:

(1) Advise other agencies and the public of our intentions, and

(2) Obtain suggestions and information on the scope of issues to include in the environmental document.

DATES: An open house style meeting will be held during the scoping phase and public draft phase of the comprehensive conservation plan development process. Special mailings, newspaper articles, and other media announcements will be used to inform the public and state and local government agencies of the dates and opportunities for input throughout the planning process.

ADDRESSES: Comments and requests for more information regarding the Eufaula National Wildlife Refuge planning process should be sent to: Mike Dawson, Refuge Planner, Fish and Wildlife Service, 6578 Dogwood View Parkway, Suite B, Jackson, Mississippi 39213; Telephone: 601/965-4903, ext. 20; Fax: 601/965-4010; Electronic mail: mike_dawson@fws.gov. To ensure consideration, written comments must be received no later than March 13, 2006. Our practice is to make comments, including names and addresses of respondents, available for public review during regular business hours. Individual respondents may request that we withhold their home addresses from the record, which we will honor to the extent allowable by law.

SUPPLEMENTARY INFORMATION: Eufaula National Wildlife Refuge was established in 1964 to provide food and resting habitat for migratory waterfowls and wood ducks. It consists of 11,184 acres and several conservation easements and fee title tracts. The refuge occupies the upper portion of the Corps of Engineers' Walter F. George Reservoir (Lake Eufaula).

Some of the recreation and education opportunities on the refuge include hunting, fishing, photography, and wildlife observation. Approximately 325,000 people visit the refuge annaully.

The Service will conduct a comprehensive conservation planning process that will provide opportunity for state and local governments, agencies, organizations, and the public to participate in issue scoping and public comment. Comments received by the planning team will be used as part of the planning process.

Authority: This notice is published under the authority of the National Wildlife Refuge System Improvement Act of 1997, Public Law 105-57.

Dated: October 27, 2005.
Cynthia K. Dohner,
Acting Regional Director.

[FR Doc. 06-732 Filed 1-25-06; 8:45 am]

BILLING CODE 4310-55-M